DEPARTMENT OF HEALTH AND HUMAN SERVICES

Centers for Disease Control and Prevention

[Program Announcement 03076]

Development of a National Healthy Homes Training Center and Network; Notice of Availability of Funds

Application Deadline: July 28, 2003.

A. Authority and Catalog of Federal Domestic Assistance Number

This program is authorized under sections 301, 311 and 317(c) of the Public Health Service Act, [42 U.S.C. sections 241, 243 NS 247B-4], as amended. The Catalog of Federal Domestic Assistance number is 93.283.

B. Purpose

The Centers for Disease Control and Prevention (CDC) announces the availability of fiscal year 2003 funds for a cooperative agreement program for the development of a national healthy homes training center and network. This program addresses the “Healthy People 2010” focus area(s) Environmental Health, Injury and Violence Prevention, and Public Health Infrastructure.

Housing conditions have an important impact on public health. This project is designed to address the training and education needs of environmental public health managers and practitioners and housing specialists and inspectors whose work-related activities result in healthy and safe housing environments. Specifically, the purpose of the project is to develop a National Healthy Homes Training Center and Network (hereafter referred to as the Center). Note: The term “Healthy Homes” refers to a coordinated, comprehensive, systematic, and holistic approach to preventing disease and injury that result from environmental hazards and deficiencies related to housing.

The Center will develop a training center and network to deliver appropriate course material through formal programs, both at the Center and other locations, based on state and local needs. The Center also will develop internet-based course materials. At least one on-site pilot training program will be conducted and evaluated within the first operational year. In subsequent years, depending upon available funding, at least two training programs will be conducted on-site, and two training programs will be conducted off-site, determined by the award recipient with input from CDC.

The Center will address urban, rural, and Native American health and housing-related issues that impact public health and will complement the CDC draft Healthy Homes Training Center and Network Initiative (see Addendum II—all addendums referenced in this announcement are posted with the announcement on the CDC web site.) The Center's training programs will serve as a forum to (1) exchange information about federal, state, tribal, and local healthy homes related activities; (2) introduce new healthy homes research findings; (3) discuss program gaps and potential resources; and (4) create new opportunities for networking, collaboration, and partnerships.

Measurable outcomes of the program will be in alignment with the following performance goal of the National Center for Environmental Health (NCEH): To increase the capacity of state and local health departments and local housing authorities to deliver environmental public health services.

The program will also increase the understanding of the relationship between substandard, inadequate, or unsafe housing and health effects.

C. Eligible Applicants

Applications may be submitted by the following:

1. Academic Centers for Public Health Preparedness: A project of the Public Health Practice Program Office, CDC, that operates through the Association of Schools of Public Health (see Addendum III). These Centers are part of a national system for competency-based training for the public health work force and have an infrastructure in place to improve the competencies of the public health and housing work forces. Note: To create healthy homes, strategic partnerships must be developed with public health agencies and organizations, local housing agencies, and other appropriate disciplines. An applicant must provide evidence of collaboration with those agencies and organizations that have complementary responsibilities, and must describe how each contributes to the overall goals and objectives as described in the application.

There must be evidence of partnerships or working relationships with the following: state and/or local health departments, local housing agencies, an undergraduate college with an environmental health curriculum, and a national research and training organization with vested interest and responsibility that supports creating and maintaining healthy homes.

2. National Healthy Homes Research and Training Organizations: National, non-profit organizations with a mission that promotes through research, training, education, and outreach the protection of citizens from health and safety risks associated with inadequate, substandard, or unsafe housing conditions.

Note: To create healthy homes, strategic partnerships must be developed with public health agencies and organizations, local housing agencies, and other appropriate disciplines. An applicant must provide evidence of collaboration with those agencies and organizations that have complementary responsibilities, and must describe how each contributes to the overall goals and objectives as described in the application. There must be evidence of partnerships or working relationships with the following: state and/or local health departments, local housing agencies, and an undergraduate college with an environmental health curriculum with vested interest and responsibility that supports creating and maintaining healthy homes.

Applicants must demonstrate that the mission of the organization is committed to improving public health infrastructure and manpower development. Applications that do not include the above information will be determined as non-responsive and returned without review.

Note: Title 2 of the United States Code section 1611 states that an organization described in section 501c(4) of the Internal Revenue Code that engages in lobbying activities is not eligible to receive Federal funds constituting an award, grant or loan.

D. Funding

Availability of Funds

Approximately $300,000 is available in FY 2003 to fund one award. It is expected that the award will begin on or about September 15, 2003, and will be made for a 12-month initial budget period. Additional years will be for 12-month periods, within a project period of up to three years. Funding estimates may change.

Continuation awards within an approved project period will be made on the basis of satisfactory progress as evidenced by required reports and the availability of funds.

Use of Funds

The recipient may use funds for the development, implementation, and operation of the National Healthy Homes Training Center and Network. This may include support for staff and materials to develop the curriculum and electronic, classroom, seminar and announcement materials; and costs related to implementing and conducting the training programs on- and off-site, including subcontracting costs for experts to assist in developing the curriculum, course materials, and conduct the training.

Recipient Financial Participation

Matching funds are not required.

E. Program Requirements

In conducting activities to achieve the purpose of this project, the recipient will be responsible for the activities listed in 1. Recipient Activities. CDC will be responsible for the activities listed in 2. CDC Activities.

1. Recipient Activities:

a. Organize an eight to ten-member Healthy Homes Training Work Group, with input and approval from CDC and HUD, of environmental public health and housing experts to advise the award recipient on matters related to the development of the curriculum and course materials.

b. Develop the National Healthy Homes Training Center and Network, including a curriculum that includes a variety of course and seminar materials that can be presented on- and off-site.

Note: The curriculum and all course materials will be submitted to CDC for review and approval. Courses, seminars, and related materials will focus on the concept of healthy homes, methods of inspection and approaches to remediation, evaluation, and resource identification to create healthy and safe homes.

c. Conduct at least one training session within the first year of operation, limited to 15 enrollees.

d. Evaluate the activities, process, and outcome of the Healthy Homes Training Center and Network. The evaluation will include an analysis of the curriculum, and participant assessments.

2. CDC Activities:

a. Serve as technical consultants to the Healthy Homes Training Work Group that provides recommendations to the award recipient on matters related to the development of the curriculum and course materials. This includes ongoing consultation with appropriate recipient staff and other experts.

b. Review and approve the curriculum and course materials, and participate with the recipient and others in conducting courses. This includes identification of presenters, selection of the pilot training site and future training sites, and onsite participation of selected CDC experts in all workshops.

c. Participate with the award recipient in the selection of the pilot-training site and assist the award recipient in the evaluation of the pilot training program.

d. Assist the recipient in an analysis of the curriculum, the evaluation of courses, and participant assessments. This will include review and approval of evaluation materials.

F. Content

Applications

The Program Announcement title and number must appear in the application. Use the information in the Program Requirements, Other Requirements, and Evaluation Criteria sections to develop the application content. Your application will be evaluated on the criteria listed so it is important to follow them in laying out your program plan.

The narrative should be no more than 20 pages, double-spaced, printed on one side, with one-inch margins, and unreduced 12-point font. Appendices should not exceed 30 pages, and curriculum vitae summaries are acceptable.

The narrative should consist of a Statement of Need and Plan; Collaboration and Partnerships; Personnel and Technical Experts; Objectives and Methods; Timeline; Evaluation; and Budget. The Timeline should address activities to be conducted over the entire three-year project period.

G. Submission and Deadline

Application Forms

Submit the signed original and two copies of the application PHS 5161-1 (OMB Number 0920-0428. Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time, July 28, 2003. Submit the application to: Technical Information Management—PA#03076, CDC Procurement and Grants Office, 2920 Brandywine Road, Atlanta, GA 30341-4146.

Applications may not be submitted electronically.

CDC Acknowledgment of Application Receipt

A postcard will be mailed by PGO-TIM, notifying you that CDC has received your application.

Deadline

Letters of intent and applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goal stated in the purpose section of this announcement. Measures must be objective and quantitative and must measure the intended outcome. These measures of effectiveness must be submitted with the application and will be an element of evaluation.

An independent review group appointed by CDC will evaluate each application against the following criteria:

1. Statement of Need and Plan (20 points)

a. The extent to which the applicant understands the need, requirements, problems, and complexities of this healthy homes work force training project, and the need to increase the capacity and performance of the environmental public health and housing work forces.

b. The adequacy of the operational plan to develop and implement the National Healthy Homes Training Center and Network, including the curriculum, course materials, and to conduct two pilot training programs.

2. Collaboration and Partnership (20 points)

The extent to which the applicant demonstrates their ability to collaborate on this project with other agencies, organizations, and academic institutions that have a vested interest and responsibility that supports creating and maintaining healthy homes. Strategic partners will include national advocacy organizations, public health agencies and organizations, local housing agencies, and other disciplines. Letters of support from these collaborating agencies and organizations must include detailed information on the level of commitment and support they will provide to the project in terms of personnel and other resources.

3. Personnel and Technical Expertise (20 points)

The extent to which the applicant describes the qualifications of the staff and subcontractors to successfully accomplish the project goals, objectives and activities, including development and implementation of the National Healthy Homes Training Center and Network, development of the curriculum and course-related materials, conducting one pilot training program, and the evaluation plan.

4. Objectives and Activities (20 points)

The extent to which the proposed objectives and their activities are clearly stated, realistic, time-phased, and related to the goals of the project.

5. Timeline (10 points)

The extent to which the applicant presents a concise and realistic timeline for the entire project period to accomplish the goals, objectives and activities to develop, implement, and operate the National Healthy Homes Training Center and Network.

6. Evaluation Plan (10 points)

The extent to which the applicant presents a quality evaluation plan for the various initiatives of the project.

7. Budget (Not scored)

The extent to which the applicant provides justification for budget expenditures as well as their appropriateness to activities proposed in the project. The applicant should include costs for one person to travel to Atlanta, GA (three-overnight stays) to attend the 6th National Environmental Health Conference, December 3-5, 2003.

I. Other Requirements

Technical Reporting Requirements

Provide CDC with original plus two copies of—

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program:

AR-10 Smoke-Free Workplace Requirements

AR-11 Healthy People 2010

AR-12 Lobbying Restrictions

AR-14 Accounting System Requirements

AR-15 Proof of Non-Profit Status

Executive Order 12372 does not apply to this program.

For a complete description of each additional requirement, see Addendum I of the program announcement as posted on the CDC web site.

J. Where To Obtain Additional Information

This and other CDC announcements, the necessary applications, and associated forms can be found on the CDC web site, Internet address: http://www.cdc.gov.

Click on “Funding” then “Grants and Cooperative Agreements”.

For general questions about this announcement, contact: Technical Information Management, CDC Procurement and Grants Office, 2920 Brandywine Road, Atlanta, GA 30341-4146, Telephone: 770-488-2700.

For business management and budget assistance, contact: Ms. Mildred Garner, Grants Management Office, Centers for Disease Control and Prevention, 2920 Brandywine Road, Atlanta, GA 30341-4146. Telephone: (770) 488-2745. E-mail address: Mgarner@cdc.gov.

For program technical assistance, contact: Mr. Jerry Hershovitz, Associate Director for Program Management, Division of Emergency and Environmental Health Services, Centers for Disease Control and Prevention, 4770 Buford Highway, Mailstop F30, Atlanta, GA 30341-3724, (770) 488-4542, E-mail address: jmh@cdc.gov.

Dated: June 3, 2003.
Sandra R. Manning,
Director, Procurement and Grants Office, Centers for Disease Control and Prevention.

[FR Doc. 03-14667 Filed 6-10-03; 8:45 am]

BILLING CODE 4163-18-P